DEPARTMENT OF EDUCATION

Privacy Act of 1974; Computer Matching Program

AGENCY: Department of Education.

ACTION: Notice—Computer Matching between the U.S. Department of Education and the Social Security Administration.

SUMMARY: Pursuant to the Computer Matching and Privacy Protection Act of 1988, Public Law 100-503, the Computer Matching and Privacy Protections Amendments of 1990, Pub. L. 101-508, and Office of Management and Budget (OMB) guidance on the conduct of computer matching programs, notice is hereby given of the renewal of the computer matching program between the U.S. Department of Education (ED) (recipient agency), and the Social Security Administration (SSA) (source agency). This renewal of the computer matching program between SSA and ED will become effective as explained in this notice.

In accordance with the Privacy Act of 1974 (5 U.S.C. 552a), as amended, OMB Final Guidance Interpreting the Provisions of Public Law 100-503, the Computer Matching and Privacy Protection Act of 1988, published in the Federal Register on June 19, 1989 (54 FR 25818), and OMB Circular No. A-130, Transmittal Memorandum #4, Management of Federal Information Resources (November 28, 2000) we provide the following information:

1. Names of Participating Agencies

The U.S. Department of Education and the Social Security Administration.

2. Purpose of the Match

The purpose of this matching program between ED and SSA is to assist the Secretary of Education with verification of immigration status and Social Security numbers (SSNs) under 20 U.S.C. 1091(g) and (p). SSA will verify the issuance of an SSN to, and will confirm the citizenship status, as recorded in SSA's records, of those students and parents applying for aid under a student financial assistance program authorized under Title IV of the Higher Education Act of 1965, as amended (HEA). Verification of this information by SSA will help ED satisfy its obligation to ensure that individuals applying for financial assistance meet eligibility requirements imposed by the HEA.

Verification by this computer matching program effectuates the purpose of the HEA because it provides an efficient and comprehensive method of verifying the accuracy of each individual's SSN and claim to a citizenship status that permits that individual to qualify for Title IV, HEA assistance.

3. Authority for Conducting the Matching Program

ED is authorized to participate in the matching program under sections 484(p) (20 U.S.C. 1091(p)); 484(g) (20 U.S.C. 1091(g)); 483(a)(12) (20 U.S.C. 1090(a)(12)); and 428B(f)(2) (20 U.S.C. 1078-2(f)(2)) of the HEA.

SSA is authorized to participate in the matching program under section 1106(a) of the Social Security Act (42 U.S.C. 1306(a)) and the regulations promulgated pursuant to that section (20 CFR part 401).

4. Categories of Records and Individuals Covered by the Match

The Federal Student Aid Application File (18-11-01), which contains the information to determine an applicant's eligibility for Federal student financial assistance, and the ED personal information number (PIN) Registration System of Records (18-11-12), which contains the applicant's information to receive an ED PIN, will be matched against SSA's Master Files of Social Security Number Holders and SSN Applications System, SSA/OS, 60-0058, which maintains records about each individual who has applied for and obtained an SSN.

5. Effective Dates of the Matching Program

This matching program must be approved by the Data Integrity Board of each agency. The computer matching agreement will become effective on the last of the following dates: (1) April 10, 2011; (2) 40 days after the approved agreement and report on the matching program are sent to Congress and OMB (or later if OMB objects to some or all of the agreement) unless OMB waives 10 days of this 40-day period for compelling reasons shown, in which case 30 days after transmission of the report to Congress and OMB; or (3) 30 days after publication of this notice in the Federal Register.

The matching program will continue for 18 months after the effective date and may be extended for an additional 12 months thereafter, if the conditions specified in 5 U.S.C. 552a(o)(2)(D) have been met.

6. Address for Receipt of Public Comments or Inquiries

Individuals wishing to comment on this matching program, or to obtain additional information about the program, including a copy of the computer matching agreement between ED and SSA, should contact Leroy Everett, Management and Program Analyst, U.S. Department of Education, Union Center Plaza, 830 First Street, NE., Washington, DC 20202-5454. Telephone: (202) 377-3265. If you use a telecommunications device for the deaf (TDD), call the Federal Relay Service (FRS), toll free, at 1-800-877-8339.

Individuals with disabilities can obtain this document in an accessible format (e.g., braille, large print, audiotape, or computer diskette) by contacting the contact person listed in the preceding paragraph.

Electronic Access to This Document

You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: February 25, 2011.
James W. Runcie,
Deputy Chief Operating Officer, Federal Student Aid, U.S. Department of Education.

[FR Doc. 2011-4669 Filed 3-1-11; 8:45 am]

BILLING CODE 4000-01-P